DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: U.S. Fish and Wildlife Service, Laramie, WY, PRT-37824.

The applicant requests a permit to export and re-import captive bred and wild live specimens of Black-footed ferret (Mustela nigripes) to/from Mexico for completion of identified tasks and objectives mandated under the Black-Footed Ferret Recovery Plan. Salvaged materials may include, but are not limited to: whole or partial specimens, hair, and blood samples. This notification covers activities conducted by the applicant over the next five years.

Applicant: Safari Enterprises, Boerne, TX, PRT-37024.

The applicant requests a permit to import two captive born jaguars (Panthera onca) from Zoo Congo, Mexico City, Mexico for the purpose of enhancement of the survival of the species through captive propagation.

Applicant: Donald R. Card, Grand Ledge, MI, PRT-027135.

The applicant requests a permit to import a polar bear (Ursus maritimus) sport-hunted from the Northern Beaufort Sea polar bear population in Canada for personal use. On May 22, 2000 [65 FR 32120], the permit request was mistakenly published as a sport-hunted bear from Lancaster Sound population.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); Fax: (703/358-2281).

Dated: January 17, 2001.
Anna Barry,
Chief, Branch of Permits, Division of Management Authority.

[FR Doc. 01-2018 Filed 1-22-01; 8:45 am]

BILLING CODE 4310-55-P